ENVIRONMENTAL PROTECTION AGENCY

[Regional Docket Nos. V-2009-1, FRL-9176-5]

Clean Air Act Operating Permit Program; Petition for Objection to State Operating Permit for JP Pulliam Power Plant

AGENCY: Environmental Protection Agency (EPA).

ACTION: Notice of final order on petition to object to Clean Air Act (Act) operating permit.

SUMMARY: This document announces that the EPA Administrator has granted a petition from the Sierra Club asking EPA to object to a Title V operating permit for the Wisconsin Public Service Corporation's, JP Pulliam Power Plant (JP Pulliam) issued by the Wisconsin Department of Natural Resources (WDNR).

Sections 307(b) and 505(b)(2) of the Act provide that a petitioner may ask for judicial review of those portions of the petition which EPA denies in the United States Court of Appeals for the appropriate circuit. Any petition for review shall be filed within 60 days from the date this notice appears in the Federal Register, pursuant to section 307 of the Act. However, EPA did not deny any portion of the petition that is the subject of the response announced today.

ADDRESSES: You may review copies of the final order, the petition, and other supporting information at the EPA Region 5 Office, 77 West Jackson Boulevard, Chicago, Illinois 60604. If you wish to examine these documents, you should make an appointment at least 24 hours before visiting day. Additionally, the final order for the JP Pulliam Power Plant petition is available electronically at: http://www.epa.gov/region07/programs/artd/air/title5/petitiondb/petitiondb.htm.

FOR FURTHER INFORMATION CONTACT: Pamela Blakley, Chief, Air Permits Section, Air Programs Branch, Air and Radiation Division, EPA, Region 5, 77 West Jackson Boulevard, Chicago, Illinois 60604, telephone (312) 886-4447.

SUPPLEMENTARY INFORMATION: The Act affords EPA a 45-day period to review, and object, as appropriate, to Title V operating permits proposed by state permitting authorities. Section 505(b)(2) of the Act authorizes any person to petition the EPA Administrator within 60 days after the expiration of the EPA review period to object to a Title V operating permit if EPA has not done so. A petition must be based only on objections to the permit that were raised with reasonable specificity during the public comment period provided by the state, unless the petitioner demonstrates that it was impracticable to raise issues during the comment period, or the grounds for the issues arose after this period.

On June 25, 2009, EPA received a petition from the Sierra Club requesting that EPA object to the Title V operating permit for JP Pulliam. The Petitioner alleged that the permit is not in compliance with the requirements of the Act. Specifically, the Petitioner alleged that: (1) The permit omits more stringent applicable particulate matter (PM) emission limits for certain boilers because the units are: (a) Subject to the lower limits established in a preconstruction permit issued on October 15, 2008, and/or (b) subject to a State Implementation Plan provision providing for a lower PM limit for units modified after April 1972 because these units were modified in the late 1980s; (2) the permit omits the maximum hourly heat input limits that are applicable because they were contained in a preconstruction permit application submitted by the permittee and relied upon by WDNR to issue a New Source Review synthetic minor permit; and (3) the permit's PM monitoring for the boilers and PM and visible emissions monitoring for certain material handling sources are deficient.

On June 28, 2010, the Administrator issued an order granting the JP Pulliam petition. The Order explains the reasons behind EPA's conclusion.

Date: July 9, 2010.
Susan Hedman,
Regional Administrator, Region 5.

[FR Doc. 2010-17678 Filed 7-19-10; 8:45 am]

BILLING CODE 6560-50-P